INTERNATIONAL TRADE COMMISSION

[Investigations Nos. 701-TA-403 and 731-TA-895-897 (Preliminary)]

Pure Magnesium From China, Israel, and Russia; Determinations

On the basis of the record ¹ developed in the subject investigations, the United States International Trade Commission determines,² pursuant to section 733(a) of the Tariff Act of 1930,³ that there is a reasonable indication that an industry in the United States is materially injured by reason of imports of pure magnesium from Israel and Russia, and pure granular magnesium from China,⁴ that are alleged to be sold in the United States at less than fair value (LTFV).

¹ The record is defined in sec. 207.2(f) of the Commission's Rules of Practice and Procedure (19 CFR § 207.2(f)).

² Commissioners Miller, Hillman, and Askey dissenting with respect to imports of pure magnesium ingot from Israel and pure granular magnesium from China. Commissioners Miller and Hillman dissenting with respect to imports of pure magnesium ingot from Russia. Commissioners Miller, Hillman, and Askey found imports of pure granular magnesium from Israel and Russia to be negligible.

³ 19 U.S.C. § 1673b(a).

⁴ The imported goods covered in the investigations concerning Israel and Russia include pure magnesium, regardless of chemistry, form, or size, including, without limitation, ingots, raspings, granules, turnings, chips, powder, and briquettes. The imported goods covered in the investigation concerning China include all of the foregoing pure magnesium products, except pure magnesium ingots (which are covered by an existing order and are classifiable under subheadings 8104.11.00 and 8104.19.00 of the Harmonized Tariff Schedule of the United States (HTS)).

Pure magnesium includes: (1) Products that contain at least 99.95 percent primary magnesium, by weight (generally referred to as “ultra-pure” magnesium); (2) products that contain less than 99.95 percent but not less than 99.8 percent primary magnesium, by weight (generally referred to as “pure” magnesium); and (3) products that contain 50 percent or greater, but less than 99.8 percent primary magnesium, by weight, and that do not conform to an American Society for Testing and Materials (ASTM) specification for magnesium alloy (generally referred to as “off-specification pure” magnesium).

The merchandise subject to the investigation concerning Israel and Russia is classifiable under subheadings 8104.11.00, 8104.19.00, and 8104.30.00 of the HTS. The merchandise subject to the investigation concerning China is classifiable under subheading 8104.30.00 of the HTS.

The Commission also determines,⁵ pursuant to section 703(a) of the Tariff Act of 1930,⁶ that there is a reasonable indication that an industry in the United States is materially injured by reason of imports of pure magnesium from Israel that are alleged to be subsidized by the Government of Israel.

⁵ Commissioners Miller, Hillman, and Askey dissenting with respect to imports of pure magnesium ingot from Israel. Commissioners Miller, Hillman, and Askey found imports of pure granular magnesium from Israel to be negligible.

⁶ 19 U.S.C. § 1671b(a).

Pursuant to section 207.18 of the Commission's rules, the Commission also gives notice of the commencement of the final phase of its investigations. The Commission will issue a final phase notice of scheduling which will be published in the Federal Register as provided in section 207.21 of the Commission's rules upon notice from the Department of Commerce (Commerce) of affirmative preliminary determinations in the investigations under sections 703(b) and 733(b) of the Act, or, if the preliminary determinations are negative, upon notice of affirmative final determinations in those investigations under sections 705(a) and 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On October 17, 2000, a petition was filed with the Commission and the Department of Commerce by Magnesium Corporation of America (MagCorp), Salt Lake City, UT, the United Steel Workers of America, Local 8319, Salt Lake City, UT, and the United Steelworkers of America, AFL-CIO-CLC (USWA International),⁷ alleging that an industry in the United States is materially injured and threatened with material injury by reason of imports of pure magnesium from Israel and Russia, and pure granular magnesium from China, that are alleged to be sold in the United States at LTFV, and by reason of imports of pure magnesium from Israel that are alleged to be subsidized by the Government of Israel. Accordingly, effective October 17, 2000, the Commission instituted countervailing duty investigation No. 701-TA-403 (Preliminary) and antidumping investigations Nos. 731-TA-895-897 (Preliminary).

⁷ See letter from petitioners dated October 26, 2000 amending the petitions to include the USWA International as co-petitioners.

Notice of the institution of the Commission's investigations and of a public conference to be held in connection therewith was given by posting copies of the notice in the Office of the Secretary, U.S. International Trade Commission, Washington, DC, and by publishing the notice in the Federal Register of October 25, 2000.⁸ The conference was held in Washington, DC, on November 7, 2000, and all persons who requested the opportunity were permitted to appear in person or by counsel.

⁸ 65 FR 63888, Oct. 25, 2000.

The Commission transmitted its determinations in these investigations to the Secretary of Commerce on December 1, 2000. The views of the Commission are contained in USITC Publication 3376 (December 2000), entitled Pure Magnesium from China, Israel, and Russia: Investigations Nos. 701-TA-403 (Preliminary) and 731-TA-895-897 (Preliminary).

By order of the Commission.
Issued: December 5, 2000.
Donna R. Koehnke,
Secretary.

[FR Doc. 00-31719 Filed 12-12-00; 8:45 am]

BILLING CODE 7020-02-P